DEPARTMENT OF HEALTH AND HUMAN SERVICES

Centers for Disease Control and Prevention

[60 Day-01-58]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Evaluation of the Graduate Certificate Program—New—National Center for HIV, STD, and TB Prevention (NCHSTP), the Centers for Disease Control and Prevention (CDC). The National Center for HIV, STD and TB, CDC proposes to collect data to evaluate the Graduate Certificate Program (GCP). From July 1997 through January 2001, NCHSTP Prevention Support Office administered the GCP which funded 130 CDC public health professionals and 130 state and local public health professionals to attend a distance learning program that consisted of approximately one-half of the requirements of a graduate-level degree. The purpose of the proposed project is to evaluate the process, impact, and outcome measures of the GCP that were described in the original Request for Proposal (RFP). CDC is looking to establish perceived or measurable benefits of the program, as well as to evaluate the effectiveness of the distance-based education approach.

The data collected will be used to determine the effectiveness of the distance-based training approach, and to provide recommendations for developing similar training strategies in the future.

Data will be collected through an attitudinal survey that will be available in both paper and electronic copies. The survey will be administered to 520 respondents (approximately 260 state and local public health professionals (130 participants and 130 nonparticipants) and 260 supervisors (130 supervisors of participants and 130 supervisors of nonparticipants). It is estimated that it will take respondents approximately 20 minutes to complete the survey. There are no costs to respondents.

Respondents | No. of respondents | No. of responses per respondent | Average burden/response (in hours) | Total burden (in hours)
State and Local Public Health Professionals | 520 | 1 | 20/60 | 173
Total |  |  |  | 173

Dated: August 21, 2001.
Nancy Cheal,
Acting Associate Director for Policy, Planning and Evaluation, Centers for Disease Control and Prevention.

[FR Doc. 01-21741 Filed 8-29-01; 8:45am]

BILLING CODE 4163-18-P